DEPARTMENT OF JUSTICE

Notice of Lodging of Proposed Consent Decree Under the Clean Air Act and Emergency Planning and Community Right-To-Know Act

On March 7, 2016, the Department of Justice lodged a proposed Consent Decree with the United States District Court for the Western District of Washington in the lawsuit entitled United States v. Ocean Gold Seafoods, Inc. and Ocean Cold, LLC, Civil Action No. 3:16-cv-5179.

The United States, on behalf of the United States Environmental Protection Agency (“EPA”), filed a complaint against Ocean Gold Seafoods, Inc. and Ocean Cold, LLC (the “Ocean Companies”), seeking injunctive relief and the imposition of civil penalties for violations of the Clean Air Act and the Emergency Planning and Community Right-to-Know Act in connection with the Companies' use of refrigerant and refrigeration appliances at their seafood processing and cold storage facilities in Westport, Washington. The Consent Decree requires the Companies to implement a comprehensive refrigerant compliance management plan and an employee training program; hire a third party verifier to conduct independent inspections and audits of their records and appliances; and report annually to EPA. The Consent Decree also requires the Companies to mitigate past releases by maintaining refrigerant loss rates below regulatory standards (subject to stipulated penalties), and to pay a civil penalty of $495,000.

The publication of this notice opens a period for public comment on the Consent Decree. Comments should be addressed to the Assistant Attorney General, Environment and Natural Resources Division, and should refer to United States v. Ocean Gold Seafoods, Inc. and Ocean Cold, LLC, D.J. Ref. No. 90-5-2-1-10698. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $29.00 (25 cents per page reproduction cost) payable to the United States Treasury. For a paper copy without the exhibits and signature pages, the cost is $11.00.

Susan M. Akers,
Assistant Section Chief, Environmental Enforcement Section, Environment and Natural Resources Division.

[FR Doc. 2016-05548 Filed 3-10-16; 8:45 am]

BILLING CODE 4410-15-P